DEPARTMENT OF TRANSPORTATION

Federal Railroad Administration

[Docket No. FRA-2000-7137]

Petition for Grandfathering of Non-Compliant Equipment; San Diego Trolley, Inc.

In accordance with 49 CFR 238.203(f), notice is hereby given that San Diego Trolley, Inc. (SDTI) has petitioned the Federal Railroad Administration (FRA) for grandfathering of non-compliant railroad passenger equipment for use on SDTI's light rail transit system.

Section 238.203 of title 49 of the Code of Federal Regulations addresses static end strength requirements for passenger rail equipment. Paragraph (a)(1) provides that all passenger equipment (subject to limited exceptions) shall resist a minimum static end load of 800,000 pounds applied on the line of draft without permanent deformation of the body structure. Paragraph (d)(2) provides that “[a]ny passenger equipment placed in service on a rail line or lines before November 8, 1999 that does not comply with the requirements of paragraph (a)(1) may continue to be operated on that particular line or (those particular lines) if the operator of the equipment files a petition seeking grandfathering approval under paragraph (d)(3) before November 8, 1999. Such usage may continue while the petition is being processed, but in no event later than May 8, 2000, unless the petition is approved.”

SDTI requests that all conventional light rail vehicles operating on the Blue Line and Orange Line be grandfathered to permit usage pursuant to 49 CFR 238.203(d). The applicant states that the Blue Line operates in the cities of San Diego, National City, Chula Vista, and an unincorporated area of San Diego County and extends for 25.2 miles. The Orange Line operates through the City of San Diego, Lemon Grove, La Mesa, El Cajon and Santee and extends for 21.6 miles.

Interested parties are invited to participate in this proceeding by submitting written views, data or comments. FRA does not anticipate scheduling a public hearing in connection with this proceeding, however, if any interested party desires an opportunity for oral comment, they should notify FRA, in writing, before the end of the comment period and specify the basis for their request.

All communications concerning this proceeding should be identified with Docket Number FRA-2000-7137 and must be submitted to the Docket Clerk, DOT Central Docket Management Facility, Room PL-401, 400 Seventh Street, SW, Washington, DC 20590-0001. Communications received within 30 days of publication of this notice will be considered by FRA before final action is taken. Comments received after that date will be considered to the extent possible. SDTI's petition and all written communications concerning this proceeding are available for examination during regular business hours (9:00 a.m. to 5:00 p.m.) at the DOT Central Docket Management Facility, Room PL-401 (Plaza Level), 400 Seventh, SW, Washington, DC 20590-0001. All documents in the public docket are also available for inspection and copying on the Internet at the docket facility's Web site at http://dms.dot.gov.

Elsewhere in today's Federal Register, FRA is publishing notice of the receipt of a petition from SDTI for a waiver of compliance from the May 8, 2000 date specified in 49 CFR 238.203(d)(2) for cessation of the temporary usage of non-compliant railroad passenger equipment that is the subject of a grandfathering petition filed with FRA, absent FRA approval of the petition by that date. SDTI's petition also seeks a waiver of compliance from the date by which a grandfathering petition is required to be filed with FRA. This waiver petition proceeding is identified as Docket No. FRA-2000-7274. FRA will hold a public hearing on Docket No. FRA-2000-7274 on May 3, 2000, as detailed in the separate Federal Register notice.

Issued in Washington, DC on April 25, 2000.
S. Mark Lindsey,
Acting Deputy Administrator, Federal Railroad Administration.

[FR Doc. 00-10705 Filed 4-27-00; 8:45 am]

BILLING CODE 4910-06-P